PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before July 5, 2019.

ADDRESSES: Comments should be addressed to Virginia Burke, FOIA/Privacy Act Officer. Virginia Burke can be contacted by telephone at 202-692-1887 or email at pcfr@peacecorps.gov. Email comments must be made in text and not in attachments.

FOR FURTHER INFORMATION CONTACT: Virginia Burke at Peace Corps address above.

SUPPLEMENTARY INFORMATION:

Title: Peace Corps Volunteer Application.

OMB Control Number: 0420-0005.

Type of Request: Renewal.

Affected Public: Individuals.

Respondents Obligation to Reply: Voluntary.

Respondents: Potential Volunteers.

Burden to the Public:

a. Estimated number of respondents: 23,000.

b. Estimated average burden per response: 60 minutes.

c. Frequency of response: One Time.

d. Annual reporting burden: 23,000 hours.

General Description of Collection: The information collected by the Volunteer Application is used by the Peace Corps to collect essential information from individual applicants, including technical and language skills, and availability for Peace Corps service. The information is used by the Peace Corps Office of VRS in its assessment of an individual's qualifications to serve as a Peace Corps Volunteer, including practical and cross-cultural experience, maturity, motivation and commitment. Selection for Peace Corps service is based on that assessment.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on April 30, 2019.
Virginia Burke,
FOIA/Privacy Act Officer.

[FR Doc. 2019-09141 Filed 5-3-19; 8:45 am]

BILLING CODE 6051-01-P